DEPARTMENT OF EDUCATION

[CFDA No.: 84.310A]

Parental Assistance Program

AGENCY: Department of Education.

ACTION: Notice of Proposed Priority for Fiscal Year (FY) 2001.

SUMMARY: The Assistant Secretary proposes to give a competitive preference in the FY 2001 grant competition under the Parental Assistance Program (20 U.S.C. 5911 et seq.). The program provides grants to eligible non-profit organizations, and eligible non-profit organizations in consortia with local educational agencies (LEAs), to establish parental information and resource centers.

Under this competitive preference, the Assistant Secretary would award up to 10 additional points to an applicant that would implement comprehensive strategies designed to strengthen school-family-community partnerships in order to help children in low-performing schools reach high academic standards.

DATES: We must receive your comments on the proposed priority or before February 12, 2001.

ADDRESSES: Address all comments about this proposed priority to Daisy Greenfield, Office of Elementary and Secondary Education, U.S. Department of Education, 400 Maryland Avenue, SW., Room 3E307, Washington, DC 20202-6410, Telephone: (202) 401-0039, FAX: (202) 205-0303. If you prefer to send your comments through the Internet, use the following address: daisy_greenfield@ed.gov.

FOR FURTHER INFORMATION CONTACT: Daisy Greenfield, (202) 401-0039. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Invitation To Comment

Interested persons are invited to submit comments and recommendations regarding the proposed priority. All comments submitted in response to this notice will be available for public inspection, during and after the comment period, in Room 3E307, 400 Maryland Avenue, SW., Washington, DC, between the hours of 8:30 a.m. and 4 p.m., Eastern Time, Monday through Friday of each week except Federal holidays.

Assistance to Individual With Disabilities in Reviewing the Rulemaking Record

On request, the Department supplies an appropriate aid, such as a reader or print magnifier, to an individual with a disability who needs assistance to review the comments. If you want to schedule an appointment for this type of aid, you may call (202) 205-8113 or (202) 260-9895. If you use a TDD, you may call the Federal Information Relay Service (FIRS) at 1-800-877-8339.

Background

Research has shown that one of the keys to improving the achievement levels of children is increasing family and community involvement in children's education. Strong school-family-community partnerships include practices such as the following: (1) helping families establish home environments that support children's academic success; (2) improving communication among schools, families, and the community concerning all aspects of children's education; (3) encouraging effective volunteerism among families and community members to enhance classroom activities and school functions; (4) providing information to families on how to encourage their children's learning and to assist with curriculum-related activities; (5) including families in various aspects of school governance; and (6) facilitating cooperation and interaction among schools, families, and the community to achieve shared goals.

Title IV of the Goals 2000: Educate America Act, authorizes Parental Information and Resource Centers (PIRCs), which seek to increase parents' knowledge of and confidence in child-rearing activities as well as help to build and strengthen partnerships between parents and schools in meeting the educational needs of children. PIRCs are currently providing information, training and support services to parents and professionals who work with parents. They are also implementing strategies that foster more frequent and meaningful opportunities for parents and schools to work together; this work may include the full range of schools, e.g. elementary, secondary, low-performing, gifted and talented, magnet, alternative, etc. One of the keys to improving the achievement levels of children in low-performing schools, particularly at-risk children, is implementing specific strategies to enhance the involvement and participation of parents in all aspects of their children's education. The Assistant Secretary proposes to give a competitive preference to applicants that would implement comprehensive strategies designed to enhance parental involvement in low-performing schools—in particular, in schools that have been identified as in need of improvement under Title I of the Elementary and Secondary Education Act. (These are schools that have been identified as not making continuous and sustained academic progress toward meeting state standards. These schools also tend to have high percentages of minority and high-poverty students and are frequently located in rural and urban areas). To receive this preference, an applicant must be a consortium that includes a non-profit organization and one or more LEAs. The schools to be assisted by the grant must be low-performing schools identified as in need of improvement under Title I. The Assistant Secretary believes that consortia applications would be particularly effective in helping LEAs and low-performing schools build the capacity to enhance and sustain high-quality parental involvement programs. The Department currently does not fund any consortia grants under the Parental Assistant Program.

The Assistant Secretary will announce final priorities for these competitions in a notice in the Federal Register. The final priorities will be determined by responses to this notice, available funds, and other considerations of the Department.

Competitive Preference

Under 34 CFR 75.105 (c)(2)(i) and Title IV of the Goals 2000 Educate America Act, the Assistant Secretary proposes a competitive preference in the FY 2001 competition under the Parental Assistance Program. To receive this preference, an applicant must—

(1) Consist of a consortium that includes a non-profit organization and one or more LEAs with low-performing schools. The low-performing schools must be schools identified as in need of improvement under Section 1116(c) of Title I of the Elementary and Secondary Education Act.

(2) Propose to implement comprehensive strategies designed to strengthen school-family-community partnerships in order to help children in the low-performing schools reach challenging academic standards. The applicant must clearly describe the role of the non-profit organization and the LEA(s) in conducting these activities with the identified low-performing schools.

(3) Provide documentation from the identified low-performing schools demonstrating that the schools will cooperate and coordinate with the applicant in implementing the proposed activities.

An applicant that meets the competitive preference would receive up to 10 points in the competition. These points are in addition to any points the applicant earns under the selection criteria. The number of points awarded would be determined on the basis of how well the applicant addresses the competitive preference.

Electronic Access to This Document

You may review this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have question about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 59911 et seq.

Dated: January 8, 2001.
Michael Cohen,
Assistant Secretary for Elementary and Secondary Education

[FR Doc. 01-1054 Filed 1-11-01; 8:45 am]

BILLING CODE 4000-01-M